DEPARTMENT OF AGRICULTURE

Sunshine Act Meeting

AGENCY: Rural Telephone Bank, USDA.

ACTION: Privatization committee meeting.

Time and Date: 9 a.m., Thursday, November 14, 2002.

Place: Conference Room 104-A, Jamie L. Whitten Federal Building, U.S. Department of Agriculture, 12th & Jefferson Drive, SW., Washington, DC.

Status: Open.

Matters to be Discussed: The business advisor will report on the status of current privatization projects.

Action: Staff Briefing for the Board of Directors.

Time and Date: 2 p.m., Thursday, November 14, 2002.

Place: Conference Room 104-A, Jamie L. Whitten Federal Building, U.S. Department of Agriculture, 12th & Jefferson Drive, SW., Washington, DC.

Status: Open.

Matters to be Discussed: 1. Current telecommunications industry issues.

2. Administrative issues.

Action: Board of Directors Meeting.

Time and Date: 9 a.m., Friday, November 15, 2002.

Place: Conference Room 104-A, Jamie L. Whitten Federal Building, U.S. Department of Agriculture, 12th & Jefferson Drive, SW., Washington, DC.

Status: Open.

Matters to be Considered: The following matters have been placed on the agenda for the Board of Directors meeting:

1. Call to order.

2. Report on board election results.

3. Oath of office for new board members.

4. Election of board officers: Chairperson, Vice Chair, Secretary, and Treasurer.

5. Action on Minutes of the August 15, 2002, board meeting.

6. Secretary's Report on loans approved in FY 2002.

7. Treasurer's Report.

8. Privatization Committee Report.

9. Consideration of resolution to reestablish the Privatization Committee.

10. Governor's Remarks.

11. Establish dates and locations for Year 2003 board meeting.

12. Adjournment.

CONTACT PERSON FOR MORE INFORMATION: Roberta D. Purcell, Assistant Governor, Rural Telephone Bank, (202) 720-9554.

Dated: November 1, 2002.
Hilda Gay Legg,
Governor, Rural Telephone Bank.

[FR Doc. 02-28673 Filed 11-6-02; 12:31 pm]

BILLING CODE X3410-15-P